PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Representative and Address Provisions.

Form Number(s): PTO/SB/81/82/83/121/122/123/124A/124B/125A/125B.

Agency Approval Number: 0651-0035.

Type of Request: Revision of a currently approved collection.

Burden: 31,259 hours annually.

Number of Respondents: 338,280 responses per year.

Avg. Hours Per Response: The USPTO estimates that it will take the public approximately 3 to 12 minutes (0.05 to 0.2 hours) to gather the necessary information, prepare the form, and submit a completed request involving a power of attorney, correspondence address, or Customer Number. The USPTO estimates that it will take the public approximately 1 hour and 45 minutes (1.75 hours) to submit a Customer Number Upload Spreadsheet, including the time for preparing the spreadsheet file on diskette, printing a copy of the spreadsheet, and producing a signed cover letter.

Needs and Uses: The public uses this collection to submit a request to grant or revoke power of attorney or authorization of agent in an application or patent, to withdraw as attorney or agent of record in an application or patent, and to designate or change the correspondence address for one or more applications or patents. The public also uses this collection to request a Customer Number and to designate or change the correspondence address or list of registered practitioners associated with a Customer Number. The USPTO uses the information collected from the public to determine who is authorized to take action in an application or patent on behalf of the applicant, patentee, or assignee, and to send correspondence related to the application or patent to the correct address.

Affected Public: Individuals or households, businesses or other for-profits, not-for-profit institutions, and the Federal Government.

Frequency: On occasion.

Respondent's Obligation: Required to obtain or retain benefits.

OMB Desk Officer: David Rostker, (202) 395-3897.

Copies of the above information collection proposal can be obtained by calling or writing Susan K. Brown, Records Officer, Office of Data Architecture and Services, Data Administration Division, USPTO, Suite 310, 2231 Crystal Drive, Washington, DC 20231, by phone at (703) 308-7400, or by e-mail at susan.brown@uspto.gov.

Written comments and recommendations for the proposed information collection should be sent on or before October 21, 2002, to David Rostker, OMB Desk Officer, Room 10202, New Executive Office Building, 725 17th Street NW., Washington, DC 20503.

Dated: September 13, 2002.
Susan K. Brown,
Records Officer, USPTO, Office of Data Architecture and Services, Data Administration Division.

[FR Doc. 02-23764 Filed 9-18-02; 8:45 am]

BILLING CODE 3510-16-P